DEPARTMENT OF AGRICULTURE

Agricultural Marketing Service

[Doc. No. AMS-TM-24-0001]

Notice of Availability of the Draft Programmatic Environmental Assessment for AMS Resilient Food Systems Infrastructure Program

AGENCY: Agricultural Marketing Service, USDA.

ACTION: Notice of availability; request for public comments.

SUMMARY: The Agricultural Marketing Service (AMS) announces that the Draft Programmatic Environmental Assessment (PEA) for the Resilient Food Systems Infrastructure (RFSI) Program is available for public review and comments.

DATES: Comments must be received on or before March 13, 2024 to be assured consideration.

ADDRESSES: Interested persons are invited to submit written comments concerning this notice. Comments may be submitted electronically by email: RFSI@usda.gov. Comments should reference the document number and the date and page number of this issue of the Federal Register. AMS will address comments received on the draft PEA in the final PEA.

FOR FURTHER INFORMATION CONTACT: Lara Shockey, Natural Resource Specialist, Transportation and Marketing Program; Telephone: (304) 373-5875; email: lara.s.shockey@usda.gov.

SUPPLEMENTARY INFORMATION:

Background

The Draft PEA analyzes and discloses the potential environmental impacts associated with the establishment of the Resilient Food Systems Infrastructure (RFSI) Program. The United States Department of Agriculture (USDA) Agriculture Marketing Service (AMS) has proposed to fund cooperative agreements to coordinate initiatives for non-meat and poultry food products in the middle of the supply chain. Funds will support expanded capacity for the aggregation, processing, manufacturing, storing, transporting, wholesaling, and distribution of locally and regionally produced food products, including specialty crops, dairy, grains for human consumption, aquaculture, and other food products, excluding meat and poultry.

States will make subawards to support local and regional food and farm businesses and other entities. States will also provide supply chain and market development services. Through these efforts, the RFSI program aims to enhance market access for small and mid-size producers and food businesses, contributing to a more resilient and sustainable food system.

The RFSI Program is authorized by section 1001 (b)(4) of the American Rescue Plan Act (ARPA) (Pub. L. 117-2), which funds “loans and grants and other assistance to maintain and improve food and agricultural supply chain resiliency.” Recipients of funding from this proposed program would be allowed 48 months to complete work funded by the awards.

The environmental impacts of funding projects to expand capacity for the aggregation, processing, manufacturing, storing, transporting, wholesaling, and distribution of locally and regionally produced, non-meat and poultry food products and provide supply chain and market development services have been considered in a manner consistent with the provisions of the National Environmental Policy Act (NEPA) of 1969, Public Law 91-190, 42 U.S.C. 4321-4347, as amended.

A Draft PEA has been prepared, and based on this analysis, AMS has preliminarily determined there will not be a significant impact to the human environment. As a result, an Environmental Impact Statement (EIS) has not been initiated (40 CFR 1501.6). AMS intends for this PEA to create efficiencies by establishing a framework that can be used for “tiering,” where appropriate, to project-specific actions that require additional analysis. As decisions on specific applications are made, to the extent additional NEPA analysis is required, environmental review will be conducted to supplement the analysis set forth in this PEA.

The Draft PEA is available for review online at the program website: https://www.ams.usda.gov/services/grants/rfsi.

Comments Invited

Interested stakeholders are invited to submit comments on the Draft PEA, as specified in the ADDRESSES section of this Notice. The most helpful comments reference a specific recommendation for changing AMS' proposed approach to assessing environmental impacts, explain the reason for any recommended change, and include supporting information. AMS will consider all comments received on or before the closing date.

Melissa Bailey,
Associate Administrator, Agricultural Marketing Service.

[FR Doc. 2024-02801 Filed 2-9-24; 8:45 am]

BILLING CODE 3410-02-P